DEPARTMENT OF HEALTH AND HUMAN SERVICES

National Institutes of Health

Notice of Establishment

Pursuant to the Federal Advisory Committee Act, as amended (5 U.S.C. Appendix 2), the Director, National Institutes of Health (NIH), announces the establishment of the Board of Scientific Counselors for Basic Sciences, National Cancer Institute (Board).

This Committee shall advise the Director, NIH; the Deputy Director for Intramural Research, NIH; the Director, National Cancer Institute (NCI); and the Scientific Director, NCI, on the intramural research programs through periodic visits to the laboratories for assessment of the research in progress, the proposed research, and evaluation of the productivity and performance of tenured, tenure track and staff scientist and physicians.

This Board will consist of 30 members, including the Chair, appointed by the Director, NCI, from authorities knowledgeable in the fields of laboratory, clinical and biometric research, clinical cancer treatment, cancer etiology, and cancer prevention and control research in the fields of interest to NCI.

Duration of this committee is continuing unless formally determined by the Director, NIH, that termination would be in the best public interest.

Dated: August 30, 2005.
Elias A. Zerhouni,
Director, National Institutes of Health.

[FR Doc. 05-17937 Filed 9-8-05; 8:45 am]

BILLING CODE 4140-01-M